DEPARTMENT OF TRANSPORTATION

Bureau of Transportation Statistics

Reports, Forms and Recordkeeping Requirements Agency Information Collection Activity Under OMB Review

AGENCY: Bureau of Transportation Statistics, DOT.

ACTION: Notice.

SUMMARY: In compliance with the Paperwork Reduction Act of 1995 (44 U.S.C. 3501 et seq.), this notice announces that the Information Collection Request abstracted below has been forwarded to the Office of Management and Budget for extension of currently approved collections. The ICR describes the nature of the information collection and its expected burden. The Federal Register Notice with a 60-day comment period soliciting comments on the following collection of information was published on January 5, 2000 [65 FR 554-555].

DATES: Comments must be submitted on or before June 9, 2000.

FOR FURTHER INFORMATION CONTACT: Bernie Stankus, (202) 366-4387, DOT, Office of Airline Information, Room 4125, K-25, 400 Seventh Street, NW., Washington, DC 20590-0001.

SUPPLEMENTARY INFORMATION:

Bureau of Transportation Statistics

Title: Report of Extension to Political Candidates.

Type of Request: Extension of a currently approved Collection.

OMB Control Number: 2138-0016.

Form(s): BTS Form 183.

Affected Public: Certificated air carriers.

Abstract: An air carrier must submit monthly reports to the Department when the indebtedness for transportation furnished to a candidate, running for Federal office, or to persons acting on behalf of such candidates, exceeds $5,000 on the last day of a month during the 6 months before an election or nomination. After that period, the air carrier shall file such a report with the Office of Airline Information not later than the 20th day following the end of the calendar month in which the election or nomination takes place and thereafter when any change occurs in that report, until a negative report is filed. For Form 183 purposes, a “negative report” is one that indicates an indebtedness of $5,000 or less.

These disclosures have tended to reduce the lag time between when transportation is furnished to political candidates and when it is paid. In the past, such lag time resulted in substantial balances in accounts receivable to some air carriers. This led Congress to enact the Federal Election Campaign Act.

When there are carriers submitting Form 183, the Office of Airline Information compiles a monthly report identifying unpaid balances due air carriers from political candidates and sends the report to the Federal Election Commission.

Estimated Annual Burden Hours: 24.

ADDRESSES: Send comments to the Office of Information and Regulatory Affairs, Office of Management and Budget, 725-17th Street, NW., Washington, DC 20503, Attention BTS Desk Officer.

Comments are Invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Donald W. Bright,
Acting Director, Office of Airline Information, Bureau of Transportation Statistics.

[FR Doc. 00-11716 Filed 5-9-00; 8:45 am]

BILLING CODE 4910-FE-P